FEDERAL COMMUNICATIONS COMMISSION

47 CFR Part 73

[DA 02-1776, MM Docket No. 00-121, RM-9674]

Digital Television Broadcast Service; Kingston, NY

AGENCY: Federal Communications Commission.

ACTION: Final rule.

SUMMARY: The Commission, by this document, denies a Petition for Reconsideration and Motion for Stay filed by WKOB Communications, Inc. of the Report and Order, which substituted DTV channel 48 for station WRNN-DT's assigned DTV channel 21 at Kingston, New York. See 67 FR 5070, February 4, 2002. With is action, this proceeding is terminated.

FOR FURTHER INFORMATION CONTACT: Alan E. Aronowitz, Media Bureau, (202) 418-1600.

SUPPLEMENTARY INFORMATION: This is a synopsis of the Commission's Memorandum Opinion and Order, MM Docket No. 00-121, adopted July 23, 2002, and released July 29, 2002. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, television.

Federal Communications Commission.
Barbara A. Kreisman,
Chief, Video Division, Media Bureau.

[FR Doc. 02-31384 Filed 12-11-02; 8:45 am]

BILLING CODE 6712-01-P